DEPARTMENT OF EDUCATION

[Docket No.: ED-2020-SCC-0074]

Governor's Emergency Education Relief Fund Application; Correction

AGENCY: Office of Elementary and Secondary Education (OESE), Department of Education (ED).

ACTION: Correction notice.

SUMMARY: On May 27, 2020, the U.S. Department of Education published a 60-day comment period notice in the Federal Register with FR DOC# 2020-11352 (Page 31756, Column 2 and 3; Page 31757, Column 1) seeking public comment for an information collection entitled, “Governor's Emergency Education Relief Fund Application.” The Total Estimated Number of Annual Burden Hours of 26 is wrong, and the correct number is 130. The PRA Coordinator, Strategic Collections and Clearance Governance and Strategy Division, Office of Chief Data Officer, hereby issues a correction notice as required by the Paperwork Reduction Act of 1995.

Kate Mullan,
PRA Coordinator, Strategic Collections and Clearance, Governance and Strategy Division, Office of Chief Data Officer.

[FR Doc. 2020-12760 Filed 6-11-20; 8:45 am]

BILLING CODE 4000-01-P